DEPARTMENT OF ENERGY

Federal Energy Regulatory Commission

Combined Notice of Filings #1

Take notice that the Commission received the following exempt wholesale generator filings:

Docket Numbers: EG25-138-000.

Applicants: Gibson Solar, LLC.

Description: Gibson Solar, LLC submits Notice of Self-Certification of Exempt Wholesale Generator Status.

Filed Date: 2/11/25.

Accession Number: 20250211-5052.

Comment Date: 5 p.m. ET 3/4/25.

Docket Numbers: EG25-139-000.

Applicants: RWE Clean Energy, LLC.

Description: Lane City Wind, LLC submits Notice of Self-Certification of Exempt Wholesale Generator Status.

Filed Date: 2/11/25.

Accession Number: 20250211-5184.

Comment Date: 5 p.m. ET 3/4/25.

Take notice that the Commission received the following electric rate filings:

Docket Numbers: ER13-1508-009.

Applicants: Entergy Arkansas, Inc.

Description: Informational Compliance Filing of Amended Power Purchase Agreement [Pro Forma Sheets] of Entergy Louisiana, LLC, et. al.

Filed Date: 2/6/25.

Accession Number: 20250206-5162.

Comment Date: 5 p.m. ET 2/27/25.

Docket Numbers: ER24-2025-001.

Applicants: Wilderness Line Holdings, LLC.

Description: Compliance filing: Order No. 2023 Second Compliance Filing to be effective 5/15/2024.

Filed Date: 2/10/25.

Accession Number: 20250210-5130.

Comment Date: 5 p.m. ET 3/3/25.

Docket Numbers: ER25-1267-000.

Applicants: PJM Interconnection, L.L.C.

Description: § 205(d) Rate Filing: Original GIA Service Agreement No. 7521; Project Identifier No. AG1-349 to be effective 1/10/2025.

Filed Date: 2/10/25.

Accession Number: 20250210-5123.

Comment Date: 5 p.m. ET 3/3/25.

Docket Numbers: ER25-1268-000.

Applicants: PJM Interconnection, L.L.C.

Description: § 205(d) Rate Filing: Original GIA, SA No. 7515, Project Identifier No. AF2-027 to be effective 1/9/2025.

Filed Date: 2/10/25.

Accession Number: 20250210-5138.

Comment Date: 5 p.m. ET 3/3/25.

Docket Numbers: ER25-1269-000.

Applicants: New York State Electric & Gas Corporation, New York Independent System Operator, Inc.

Description: § 205(d) Rate Filing: New York Independent System Operator, Inc. submits tariff filing per 35.13(a)(2)(iii: NYISO-NYSEG Joint 205: LGIA Canisteo Wind SA2869 (CEII) to be effective 1/28/2025.

Filed Date: 2/11/25.

Accession Number: 20250211-5018.

Comment Date: 5 p.m. ET 3/4/25.

Docket Numbers: ER25-1270-000.

Applicants: NSTAR Electric Company.

Description: Tariff Amendment: Cancellation—Commonwealth Wind, LLC—Design and Engineering Agreement to be effective 2/12/2025.

Filed Date: 2/11/25.

Accession Number: 20250211-5041.

Comment Date: 5 p.m. ET 3/4/25.

Docket Numbers: ER25-1271-000.

Applicants: PJM Interconnection, L.L.C.

Description: § 205(d) Rate Filing: Amendment to ISA, Service Agreement No. 3510; U1-054 to be effective 4/13/2025.

Filed Date: 2/11/25.

Accession Number: 20250211-5046.

Comment Date: 5 p.m. ET 3/4/25.

Docket Numbers: ER25-1272-000.

Applicants: Gibson Solar, LLC.

Description: § 205(d) Rate Filing: Gibson Solar, LLC MBR Tariff to be effective 4/13/2025.

Filed Date: 2/11/25.

Accession Number: 20250211-5074.

Comment Date: 5 p.m. ET 3/4/25.

Docket Numbers: ER25-1273-000.

Applicants: Southern California Edison Company.

Description: Tariff Amendment: Termination of Wintec Energy—GIA & DSA (WDT1506/SA Nos. 988-989) to be effective 2/12/2025.

Filed Date: 2/11/25.

Accession Number: 20250211-5080.

Comment Date: 5 p.m. ET 3/4/25.

Docket Numbers: ER25-1275-000.

Applicants: BHS Solar, LLC.

Description: Initial Rate Filing: Application for Market-Based Rate Authorization with Expedited Treatment to be effective 2/12/2025.

Filed Date: 2/11/25.

Accession Number: 20250211-5181.

Comment Date: 5 p.m. ET 3/4/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 11, 2025.
Carlos D. Clay,
Deputy Secretary.

[FR Doc. 2025-02716 Filed 2-14-25; 8:45 am]

BILLING CODE 6717-01-P